ENVIRONMENTAL PROTECTION AGENCY

40 CFR Parts 52 and 81

[EPA-R10-OAR-2006-0316; FRL-8175-7]

Approval and Promulgation of Air Quality Implementation Plans; Medford-Ashland PM10 Attainment Plan, Maintenance Plan and Redesignation Request

AGENCY: Environmental Protection Agency (EPA).

ACTION: Direct final rule.

SUMMARY: EPA is taking direct final action to approve a PM10 attainment and maintenance plan for the Medford-Ashland, Oregon nonattainment area (Medford-Ashland NAA) and to redesignate the area from nonattainment to attainment for PM10. PM10 air pollution is particulate matter with an aerodynamic diameter less than or equal to a nominal ten micrometers. Also in this action, EPA is approving revisions to Oregon's statewide industrial source rules for new and modified major industrial sources of PM10 and revisions to the area-specific industrial source rules that apply in the Medford-Ashland NAA. EPA is approving the SIP revisions and redesignation request because the State adequately demonstrates that the control measures being implemented in the Medford-Ashland NAA result in attainment and maintenance of the PM10 National Ambient Air Quality Standards and all other requirements of the Clean Air Act for redesignation to attainment are met.

DATES: This direct final rule will be effective August 18, 2006, without further notice, unless EPA receives adverse comments by July 19, 2006. If adverse comments are received, EPA will publish a timely withdrawal of the direct final rule in the Federal Register informing the public that the rule will not take effect.

ADDRESSES: Submit your comments, identified by Docket ID No. EPA-R10-OAR-2006-0316, by one of the following methods:

• Federal eRulemaking Portal: http://www.regulations.gov. Follow the on-line instructions for submitting comments.

• Mail: Gina Bonifacino, Office of Air, Waste and Toxics, AWT-107, EPA, Region 10, 1200 Sixth Ave., Seattle, Washington 98101.

• Hand Delivery: EPA, Region 10 Mail Room, 9th Floor, 1200 Sixth Ave., Seattle, Washington 98101. Attention: Gina Bonifacino, Office of Air, Waste and Toxics, AWT-107. Such deliveries are only accepted during normal hours of operation, and special arrangements should be made for deliveries of boxed information.

Instructions: Direct your comments to Docket ID No. EPA-R10-OAR-2006-0316. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, such as CBI or other information whose disclosure is restricted by statute. Certain other material, such as copyrighted material, is not placed on the Internet and will be publicly available only in hard copy form. Publicly available docket materials are available either electronically in http://www.regulations.gov or in hard copy at EPA Region 10, Office of Air, Waste and Toxics, 1200 Sixth Avenue, Seattle, Washington. EPA requests that, if possible, you contact the person listed in the FOR FURTHER INFORMATION CONTACT section to schedule your inspection.

FOR FURTHER INFORMATION CONTACT: Gina Bonifacino at telephone number: (206) 553-2970, e-mail address: bonifacino.gina@epa.gov, fax number: (206) 553-0110, or the above EPA, Region 10 address.

SUPPLEMENTARY INFORMATION: Throughout this document wherever “we”, “us” or “our” are used, we mean EPA.

Table of Contents

I. What action are we taking?

II. Review of the May 14, 2004 submittal

III. Review of the March 10, 2005 submittal: Medford-Ashland attainment and maintenance plan, redesignation request and industrial source rule revisions

A. Background of the Medford-Ashland nonattainment area

1. Description of the Medford-Ashland nonattainment area

2. PM10 emissions in the Medford-Ashland nonattainment area

3. Attainment history of the Medford-Ashland nonattainment area

B. Attainment and maintenance plan requirements

C. Review of the March 10, 2005 Oregon State submittal addressing the attainment and maintenance plan requirements

1. Permit program for the construction and operation of new and modified major stationary sources of PM10

2. RACM and RACT

3. Attainment demonstration

4. Quantitative milestones which are to be achieved every three years and which demonstrate reasonable further progress (RFP) toward attainment by December 31, 1994

5. PM10 precursors

6. Attainment and maintenance emissions inventory

7. Air quality monitoring requirements

8. Demonstration of maintenance

9. Contingency measures and contingency provisions

10. Conclusion

D. Clean Air Act requirements for redesignation of nonattainment areas

E. Review of the Oregon State submittal addressing the requirements for redesignation of nonattainment areas

1. Attainment of the applicable NAAQS

2. Fully approved attainment plan

3. Section 110 and Part D requirements

4. Permanent and enforceable improvements in air quality

5. Fully approved maintenance plan

6. Transportation and general conformity

7. Rule revisions submitted on March 10, 2005

IV. Conclusion and Action

V. Statutory and Executive Order Reviews

I. What action are we taking?

We are taking direct final action to approve SIP revisions contained in two separate packages submitted by the State of Oregon. On May 14, 2004, the Department of Environmental Quality (DEQ or State) submitted a SIP revision of the State's industrial source rules for new and modified major sources, and on March 10, 2005, the State submitted an attainment and maintenance plan and redesignation request for the Medford-Ashland, Oregon PM10 nonattainment area (Medford-Ashland NAA). Also contained in the March 10, 2005 submittal were additional revisions to Oregon's statewide industrial source rules for new and modified major sources and revisions to the area-specific industrial source rules applying in the Medford-Ashland NAA. We are approving the State's SIP revisions submitted in both packages and the request for redesignation submitted with the March 10, 2005 package because the State adequately demonstrates that the control measures being implemented in the Medford-Ashland area result in maintenance of the PM10 National Ambient Air Quality Standards (NAAQS) and all other requirements of the Clean Air Act (the Act or CAA) for redesignation to attainment are met.

II. Review of the May 14, 2004 submittal

On May 14, 2004 Oregon submitted revisions to Oregon Administrative Rules, Chapter 340, Division 224 (Major New Source Review), and Division 225 (Air Quality Analysis Requirements) to clarify the requirements for creating and using emission offsets and to make other minor revisions. The primary rule revision allows offsets that provide a net air quality benefit to come from outside a designated maintenance area instead of only from inside the maintenance area. This change is approvable because there are no Federal requirements for offsets for new or modified sources in maintenance areas. The rules were also revised to add cross-references between Division 224 and Division 225 to improve the clarity of the rules. We have reviewed the May 14, 2004 submittal and found the revisions to be approvable. The Technical Support Document (TSD) for this action contains a description of the revisions and EPA's analysis of the revisions.

III. Review of the March 10, 2005 Submittal: Medford-Ashland Attainment and Maintenance Plan, Redesignation Request and Industrial Source Rule Revisions

A. Background of the Medford-Ashland Nonattainment Area

1. Description of the Medford-Ashland Nonattainment Area

The Medford-Ashland NAA is an irregularly shaped polygon covering roughly 228 miles in the Rogue Valley of Southwest Oregon and includes the communities of Ashland, Talent, Phoenix, Medford, Central Point, Jacksonville, White City, Eagle Point, and the intervening lands of Jackson County. The Rogue Valley is a mountain valley formed by the Rogue River and one of its tributaries, Bear Creek. The major portion of the valley ranges in elevation from 1,300 to 1,400 feet above sea level. Mountains surround the valley on all sides; to the east, the Cascades ranging up to 9500 feet, to the south, the Siskiyous ranging up to 7,600 feet, and to the west and north, the Coast Range and Umpqua Divide, ranging up to 5,500 feet above sea level. For a legal description of the boundaries of the Medford-Ashland NAA, see 40 CFR 81.338.

The Medford-Ashland NAA has a moderate climate with marked seasonal characteristics. Late fall, winter and early spring months are damp, cloudy and cool under the influence of marine air. Late spring, summer and early fall are warm, dry and sunny due to the dry continental nature of the prevailing winds aloft that cross this area. The area is in a rain shadow afforded by the Siskiyous and Coast Range and therefore receives light annual rainfall most of which is concentrated over the winter season. Temperatures lack extremes generally rising to just below 90 in the hottest months of summer, and Valley winds are usually very light and prevail from the north or northwest much of the year. Winter stagnation events may occur when temperature inversion events trap particulate pollution near the ground.

The Rogue Valley's economy, once heavily dependent on the wood products industry, has shifted from natural resource-based economy to an economy based in the service, retail, health care, communications and technology sectors. Between 1990 and 2000, employment in the lumber and wood products industry declined by 29%. However, employment in the rest of the manufacturing sector increased by 34%. In addition, in-migration has contributed to an increasing population in the Rogue Valley. Population growth is expected to continue through 2015.

2. PM10 Emissions in the Medford-Ashland Nonattainment Area

In the 1980s, PM10 emissions from primarily woodstoves, mobile sources, road dust, residential open burning and forestry burning, and industrial point sources contributed to exceedences of the 24 hour and annual PM10 NAAQS ¹ in the Medford-Ashland NAA. Historic high PM10 levels in the Medford-Ashland NAA include 309 μg/m³ over 24 hours in December 1985 and 68 μg/m³ for the annual period July 1985-June 1986. Since the 1980s, Oregon has implemented control strategies to decrease PM10 emissions. These strategies have reduced industrial point source emissions, area source emissions including residential heating sources, and emissions from road dust, residential open burning and prescribed forestry burning. The attainment and maintenance plan contains emission inventory summaries for the Medford-Ashland for the years 1985, 1998 and 2015. In 1985, point source emissions and emissions from home heating devices (e.g. residential woodstoves) comprised the largest portions of the PM10 emissions inventory at 27% (1275 tons per year) and 38% (1777 tons per year) respectively. In 1998, point source PM10 emissions were cut nearly in half to 535 tons per year, and there was a 75% decrease in home heating emissions to 412 tons per year. See the Technical Support Document accompanying this notice for further discussion of the PM10 emissions in the area.

¹ The 24-hour primary PM10 standard is 150 micrograms per cubic meter (μg/m³), with no more than one expected exceedance per year over a three year period. The annual primary PM10 standard is 50 μg/m³ expected annual arithmetic mean over a three year period. The secondary PM10 standards are identical to the primary standards.

3. Attainment History of Medford-Ashland Nonattainment Area

On August 7, 1987 (52 FR 29383), EPA identified the Medford-Ashland, Oregon area as a PM10 “Group I” area of concern, i.e., an area with a 95% or greater likelihood of violating the PM10 NAAQS and requiring substantial SIP revisions. The area was subsequently designated as a moderate PM10 nonattainment area upon enactment of the Clean Air Act amendments of 1990 under sections 107(d)(4)(B) and 188(a) of the Clean Air Act. See 56 FR 56694 (November 6, 1991).

The 1990 revisions to the CAA required, among other things, that the State of Oregon submit to EPA by November 15, 1991, an attainment plan which contained provisions to assure that Reasonably Available Control Measures (RACM) including Reasonably Available Control Technology (RACT) for stationary sources, are implemented by December 10, 1993 and the state demonstrate either that the PM10 NAAQS will be attained by December 31, 1994 or that attainment by such date is not practicable. See sections 172(c)(1) and 189(a) of the CAA.

Oregon, in response to the requirements of the CAA of 1990, submitted an attainment plan for the Medford-Ashland NAA on November 15, 1991, but later withdrew the attainment plan on January 6, 1997 because the emissions budget in the 1997 update to the Rogue Valley Transportation Plan did not conform to the emissions budget in the attainment plan submitted to EPA. As a result of the State's withdrawal of the attainment plan, EPA issued a finding of failure to submit a SIP by the applicable attainment dates and commenced an 18 month sanction clock for Oregon to submit an attainment plan. See 62 FR 32207 (June 13, 1997).

In 1997, EPA adopted new NAAQS for particulate matter (PM10 and PM2.5) resulting in a change in the planning requirements for PM10 nonattainment areas. See 62 FR 38652 (July 18, 1997). However, on May 4, 1999, the U.S. Court of Appeals for the District of Columbia vacated the revised 1997 PM10 NAAQS. American Trucking Association et al., and consolidated cases. The 1987 PM10 NAAQS and all of the associated requirements remained in place and the Medford-Ashland retained its designation as a moderate nonattainment area for PM10. See 69 FR 45592 (July 30, 2004).

On March 10, 2005 Oregon submitted an attainment plan, maintenance plan, and redesignation request for the Medford-Ashland NAA. Also included in this submittal were additional revisions to Oregon's industrial source rules. The remaining sections of this action describe the March 10, 2005 submittal and our basis for approving these submittals and redesignating the Medford-Ashland NAA to attainment.

B. Attainment and Maintenance Plan Requirements

Subparts 1 and 4 of Part D, Title 1 of the Act contain air quality planning requirements for PM10 nonattainment areas. Subpart 1 of Part D contains general requirements for areas designated as nonattainment. Subpart 4 of Part D contains specific planning and scheduling requirements for particulate matter nonattainment areas. Subpart 4 of Part D, section 189(a), (c) and (e) requirements apply to any moderate PM10 nonattainment area before the area can be redesignated to attainment. These requirements include:

(1) An approved permit program for construction of new or modified major stationary sources of PM10.

(2) Provisions to assure that reasonably available control technology (RACT) and reasonably available control measures (RACM) are implemented;

(3) A demonstration that the plan provides for attainment by the applicable attainment date or that attainment by such date is impracticable;

(4) Quantitative milestones which were achieved every 3 years and which demonstrate reasonable further progress (RFP) toward attainment by the applicable attainment date; and

(5) Provisions to assure that the control requirements applicable to major stationary sources of PM10 also apply to major stationary sources of PM10 precursors except where the Administrator determined that such sources do not contribute significantly to PM10 levels which exceed the NAAQS in the area.

In addition to these specific requirements for moderate PM10 nonattainment areas, moderate PM10 nonattainment areas must also meet the general planning requirements in Subpart 1 section 172(c). A thorough discussion of these requirements may be found in the General Preamble to the Act and in 57 FR 13538 (April 16, 1992). The following paragraphs describe additional nonattainment plan provisions as they apply to the Medford-Ashland NAA.

(6) Section 172(c)(3)—Emissions inventory. Section 172(c)(3) of the Act contains requirements for attainment plans to include a comprehensive, accurate, current inventory of actual emissions from all sources in the PM10 nonattainment area.

(7) Section 172(c)(7) compliance with CAA section 110(a)(2). Section 172(c)(7) requires that states shall meet applicable provisions of section 110(a)(2) including the operation of an appropriate air monitoring network in accord with 40 CFR part 58 to verify attainment status of the area.

(8) Section 172(c)(9) contingency measures—

Section 172(c)(9) contains requirements for plans to include contingency measures which were to be implemented by November 15, 1993, and to become effective without further action by the state or EPA, upon a determination by EPA that the area has failed to achieve RFP or to attain the PM10 NAAQS by the applicable statutory deadline (see Section 172(c)(9) and 57 FR 13543-13544).

Section 175A of the Act provides the requirements for maintenance plans. These requirements are further clarified in a policy and guidance memorandum from John Calcagni, Director, Air Quality Management Division, EPA Office of Air Quality Planning and Standards dated September 4, 1992, “Procedures for Processing Requests to Redesignate Areas to Attainment” (the Calcagni memo). The required provisions for maintenance plans are:

(9) An attainment emissions inventory to identify the level of emissions in the area sufficient to attain the NAAQS;

(10) A demonstration of maintenance of the NAAQS for 10 years after redesignation;

(11) Verification of continued attainment through operation of an appropriate air quality monitoring network; and

(12) Contingency provisions to promptly correct any violation of the NAAQS that occurs after redesignation of the area.

C. Review of the March 10, 2005 Oregon State Submittal Addressing the Attainment Plan Requirements and Maintenance Plan Requirements

1. Permit Program for the Construction and Operation of New and Modified Major Stationary Sources of PM10

Section 189(a)(1)(A) of the Act requires that, for the purpose of meeting the requirements of section 172(c)(5), SIPs contain a permit program providing that permits meeting the requirements of section 173 are required for the construction and operation of new and modified major stationary sources of PM10.

Oregon has a fully-approved nonattainment New Source Review (NSR) program, most recently approved on January 22, 2003 (68 FR 29530). Oregon also has a fully approved Prevention of Significant Deterioration (PSD) program, also approved on January 22, 2003 (68 FR 29530). See Oregon Administrative Rules Chapter 340, Divisions 200, 202, 209, 212, 216, 222, 224, 225 and 268.

Upon the effective date of redesignation of an area from nonattainment to attainment, the requirements of the Part D NSR program will be replaced by the PSD program and the maintenance area NSR program.

2. RACM and RACT

Section 189(a)(1)(C) of the Act requires that moderate area SIPs contain “reasonably available control measures” (RACM) for the control of PM10 emissions. Section 172(c)(1) of the Act, in turn, provides that RACM for nonattainment areas shall include “such reductions in emissions from existing sources in the area as may be obtained through the adoption, at a minimum, of reasonably available control technology”. Read together, these provisions require that moderate PM10 SIPs include RACM and “reasonably available control technology” (RACT) for existing sources of PM10 emissions.

The General Preamble provides further guidance on interpretation of the requirements for RACM and RACT. Congress, in enacting the amended Act, did not use the word “all” in conjunction with RACM and RACT. Thus, it is possible that a State could demonstrate that an existing source in an area should not be subject to a control technology especially where such a control is unreasonable in light of the specific area's individual attainment needs or is infeasible. EPA recommends that available control technology be applied to those existing sources in the nonattainment area that are reasonable to control in light of the feasibility of such controls and the individual attainment needs of the specific area.

In section 4.14.7 of the attainment and maintenance plan, Oregon describes that attainment and maintenance of the PM10 standard in Medford-Ashland NAA is based primarily on the following control strategies: industrial controls, residential woodsmoke controls, residential open burning controls, road dust controls, prescribed forestry burning controls and strategies to control PM10 from agricultural trackout. We note that in separate actions EPA has approved PM10 control strategies for the Medford-Ashland area as well as other areas in the state into the SIP on July 30, 1991, June 9, 1992 and February 23, 1993. See 57 FR 36006, 57 FR 24373 and 55 FR 10972. However, EPA made no determination of RACM or RACT when it approved these control strategies into the SIP because these rules did not contain the complete suite of PM10 control measures relied upon to demonstrate attainment of the PM10 NAAQS in Medford-Ashland and Oregon did not provide EPA with a demonstration of attainment based on these control measures. See 55 FR 10972 (February 23, 1993). The following describes the control measures contained in Oregon's March 10, 2005 submittal that constitute RACT/RACM.

(a) Industrial controls

Oregon adopted specific industrial rules for the wood products industries in the Medford-Ashland Air Quality Maintenance Area (AQMA) in 1978, 1983, 1989. Oregon revised and resubmitted the 1989 rules to EPA in 1991 based on EPA's comments on deficient sections of the 1989 rules. The 1979 and 1983 rules include: (1) Tighter pollution control requirements for particle dryers, fiber dryers, veneer dryers, large wood-fired boilers, charcoal furnaces, and air conveying systems for sander dust and sawdust; (2) additional source testing requirements; (3) operation and maintenance plans to prevent or minimize excess emissions; and (4) site-specific fugitive dust control plans. These industrial requirements resulted in a 70% reduction in industrial particulate emissions between 1978 and 1986.

The 1991 PM10 strategies for major industry require: (1) Tighter emission limits and better pollution control equipment on veneer dryers and large wood-fired boilers; (2) more extensive source testing and continuous emission monitoring in order to maximize performance of pollution control equipment; and (3) more restrictive emission offset requirements for new or expanding industries. These rules were last approved into the SIP in 2003. See 68 FR 2891 (January 22, 2003). See the TSD for this action for a complete list of industrial source rules applying in the Medford-Ashland NAA.

As explained above, Oregon submitted revisions to the industrial source rules applying in the Medford-Ashland NAA to EPA on March 10, 2005 with the attainment and maintenance plan. These revisions are described below in section III.E.9., and in the TSD for this action.

(b) Residential Woodsmoke Controls

Curtailment

Throughout the 1980s, the local jurisdictions in the Medford-Ashland NAA developed and implemented strategies to reduce emissions from residential wood burning. Jackson County led the effort with a voluntary wood burning curtailment program which began on November 19, 1985 (25% compliance), followed by the City of Medford's mandatory curtailment program adopted on November 2, 1989 (80% compliance). The City of Central Point also adopted a mandatory curtailment program on December 21, 1989 and subsequently, Jackson County converted its voluntary curtailment program to a mandatory curtailment program. Curtailment surveys have indicated compliance rates of 90% in the Medford area, and 88% in the core Medford-Central Point area. Compliance was about 66% in other parts of the curtailment area.

In 1998, a unified ordinance was developed to align approaches in Medford and Central Point to the existing Jackson County ordinance. The unified Jackson County ordinance includes a prohibition on burning in noncertified woodstoves on yellow and red advisory days, a no visible emissions standard for certified woodstoves on yellow and red advisory days and a 50% opacity limit on woodstove smoke at all other times. This unified ordinance applies in most of the Medford-Ashland nonattainment area, including portions of Jackson County, and the cities of Ashland, Central Point, Jacksonville, Medford, Phoenix and Talent. These woodstove curtailment ordinances are required by local law and contain enforcement mechanisms.

In addition to these local curtailment programs, OAR 340-262-0200 to 0250 contain mandatory woodstove curtailment provisions that apply statewide. These statewide curtailment provisions ensure that local governments implement prohibitions on wood burning in uncertified woodstoves, fireplaces or wood burning appliances during periods of stagnation. This rule was last approved into the Oregon SIP on March 24, 2003. See 68 FR 2891 (January 22, 2003).

Woodstove Replacement

In 1988, the Jackson County housing authority began the Cooperative Local Effort for Air Resources (CLEAR) to replace woodstoves with cleaner burning units and provide cost-effective weatherization in low-income homes. About $1.8 million has been obtained for CLEAR, and the Jackson County Housing Authority has replaced approximately 580 noncertified woodstoves in low income houses. A similar project called Save Our Livability, View and Environment (SAVE) was implemented in Ashland in 1990.

Home Weatherization

Weatherization of homes prior to installation of a new woodstove has been required by ordinances in the City of Medford (No. 4732) and Jackson County (No. 82-60) since 1982.

Certification

A statewide certification program for residential woodstoves consistent with EPA's New Source Performance Standard for woodstoves (40 CFR part 60, subpart AAA) was adopted in 1989 and approved into the SIP in 1992. See 57 FR 24373 (June 9, 1992). The most recent revisions to the Oregon rules containing provisions for the statewide certification (OAR 340-262-0100 to 0130) were approved on March 23, 2003. See 68 FR 2891 (January 22, 2003).

(c) Other Area Source Strategies

Open Burning

Open burning of domestic waste is controlled in the Medford-Ashland NAA through State regulations in OAR 340-240-0250. These rules have been approved into the SIP. See 68 FR 2891 (January 22, 2003). In addition to the open burning rules already approved into the SIP, local ordinances throughout the AQMA restrict the practice of open burning. Within the Medford-Ashland NAA, ordinances prohibit open burning inside the Domestic Open Burning Boundary except by special permit. These residential open burning ordinances are required by local law and contain enforcement mechanisms.

Road Dust

PM10 emissions generated through motor vehicle traffic (road dust) have been reduced by paving unpaved roads, and curb and gutter shoulders on paved roads. In addition, Jackson County recently used Congestion, Mitigation and Air Quality (CMAQ) funding to purchase a high-efficiency, vacuum street sweeper for use in the Medford-White City area. At a minimum, the cleaning program must continue to use the sweeper at least two times a month and cover Medford, White City and intervening major corridors. This measure is a Transportation Control Measure that Jackson County must implement to meet Transportation Conformity requirements (TCM).

Fugitive Dust

OAR 340-240-0180 directs sawmills, plywood mills and veneer manufacturing plants, particleboard and hardboard plants, charcoal manufacturing plants, asphalt plants, rock crushers, animal feed manufacturers, and other major industrial facilities as identified by Oregon in the Medford-Ashland NAA to prepare and implement site-specific plans for the control of fugitive emissions. This rule is in the federally approved SIP. See 68 FR 2891 (January 22, 2003). In addition, the cities of Ashland and Jacksonville have ordinances to control dust track out.

Prescribed Forestry Burning

The Oregon Smoke Management Plan (SMP) is a program designed to manage smoke impacts from burning of silivcultural wastes and prescribed forestry burning. The SMP established a Special Protection Zone around the Medford-Ashland NAA wherein mandatory restrictions on slash burning are implemented based on meteorological conditions and other factors. EPA approved the Smoke Management Plan into the SIP as part of the Oregon Visibility Plan on November 1, 2001 (66 FR 55105).

Where sources of PM10 contribute insignificantly to the PM10 problem in the area, EPA's policy is that it would be unreasonable (and would not constitute RACM) to require the sources to implement all potentially available control measures. See 57 FR 13540 (April 16, 1992 and 58 FR 13233 (March 10, 1993). Pages 62 and 63 of the emissions inventory submitted with the attainment and maintenance plan contain a summary of area source emissions in 1998. Based on the 1998 emissions inventory, EPA believes that sources other than residential wood smoke, fugitive dust, mobile sources, residential domestic burning, and industrial point sources contribute insignificantly to the emissions inventory, and therefore additional control measures are not necessary to constitute RACM/RACT.

Statewide and local industrial source control rules, local ordinances that control residential wood smoke, local ordinances controlling residential open burning, statewide wood stove certification and curtailment rules, local dust track out ordinances, and the Oregon Smoke Management Plan are permanent control measures with enforcement mechanisms. Based on the 1998 emissions inventory for the Medford-Ashland NAA and air quality monitoring and modeling data that show that the controls submitted with the attainment and maintenance plan have resulted in the Medford-Ashland NAA attaining the PM10 NAAQS, EPA is determining that the PM10 controls submitted with the attainment and maintenance plan meet RACT and RACM requirements. The technical support document for this action contains a list of control strategies that EPA is concluding meets RACT and RACM and the State effective date for these rules.

3. Attainment Demonstration

Initial moderate PM10 areas were required to submit either a demonstration (including air quality modeling) that the plan will provide for attainment as expeditiously as practicable, but no later than December 31, 1994, or a demonstration that attainment by that date is impracticable. To demonstrate attainment, the State must rely on a combination of supporting evidence. First, the State must demonstrate that an area has attained the PM10 NAAQS through analysis of ambient air quality data from an ambient air monitoring network representing peak PM10 concentrations, and stored in the EPA Air Quality System (AQS) database. Second, the State must provide EPA-approved air quality modeling data that demonstrates that the area has attained the applicable NAAQS. The following describes how Oregon meets monitoring and modeling requirements for the attainment demonstration in the Medford-Ashland NAA.

The 24-hour PM10 NAAQS is 150 μg/m³. An area has attained the 24-hour standard when the average number of expected exceedences per year is less than or equal to one, when averaged over a three-year period (40 CFR 50.6). To make this determination, three consecutive years of complete ambient air quality data must be collected in accordance with Federal requirements (40 CFR part 58, including appendices). The annual PM10 NAAQS is 50 μg/m3. To determine attainment with the annual PM10 NAAQS, the standard is compared to the expected annual mean, which is the average of the weighted annual mean for three consecutive years.

Section 4.12.2.2 of the attainment and maintenance plan contains monitoring data from the Medford-Ashland monitoring network. The monitor at the intersection of Welch Street and Jackson Street in Medford since 1989 is the design monitor for the Medford-Ashland NAA and has met EPA design and siting criteria. Data from the Welch and Jackson monitor has been quality assured by the Oregon Department of Environmental Quality and stored in the AQS database. The last exceedence of the 24-hour PM10 NAAQS at the Welch and Jackson monitor was in 1991. The highest 24-hour values over a year since 1991 have ranged from 124 μg/m³ in 1992 to 58 μg/m³ in 2003, and there has been a general decline in ambient concentrations of 24-hour PM10 since 1991.

The monitor located at the White City Post Office and operating since 1985 is the design monitor for White City. The monitor has met EPA design and siting criteria and based on quality assured monitoring data has not recorded exceedences of the 24-hour PM10 NAAQS since 1991. The highest 24-hour concentration at this monitor since 1991 has ranged from 118 μg/m³ in 1992 to 68 μg/m³ in 2003. The PM10 levels measured at this monitor have not exceeded the annual PM10 NAAQS since 1990.

Based on quality assured monitoring data from the Medford-Ashland monitoring network, there have been no exceedences of the 24-hour PM10 NAAQS or the annual PM10 NAAQS in the Medford-Ashland NAA since 1991. Therefore, the Medford-Ashland NAA reached attainment of the PM10 NAAQS during the three year period following the year of the last exceedence (1992-1994), and attained the PM10 NAAQS by the applicable attainment date of December 31, 1994.

For the modeling demonstration, generally EPA recommends that attainment be demonstrated according to the PM-10 SIP Development Guideline (June 1987), which presents three methods. Federal regulations require demonstration of attainment “by means of a proportional model or dispersion model or other procedure which is shown to be adequate and appropriate for such purposes”. 40 CFR 51.112. The preferred method is the use of both dispersion and receptor modeling in combination, but the regulations and the guideline also allows the use of dispersion modeling alone, or in combination with proportional rollback modeling. In this instance, Oregon selected CALPUFF, a multi-layer, multi-species, non-steady-state puff dispersion model that simulates the effects of time- and space-varying meteorological conditions on pollution transport, transformation and removal to model attainment with the PM10 NAAQS in the Medford-Ashland NAA.

Section 4.14.5 of the attainment and maintenance plan contains Oregon's documentation and technical analysis of the modeling results. Oregon modeled an area encompassing at least the Medford-Ashland NAA. Inputs to the model included topographic data, worst case meteorology from 1998, 1999 and 2000, and land use and emissions inventory data for the year 1998. The meteorological domain for the model extends from just west of Grants Pass to approximately 12 kilometers east of Mt. McLoughlin and from Crater Lake to about 10 kilometers into California.

As explained above, the 24-hour standard is attained when the expected number of days per calendar year exceeding 150 μg/m³ 24-hour NAAQS is <= 1. To determine compliance with the 24-hour standard by modeling, the 4th highest modeled PM10 value is compared with the standard. To determine compliance with the annual PM10 standard, the modeled annual average values are compared with the annual PM10 standard of 50 μg/m³. In this case, the model did not predict any 4th high daily values above the 24-hour PM10 standard, and did not predict any annual average PM10 values above the annual PM10 standard. Therefore, Oregon's CALPUFF model runs, using worst case meteorology predicted compliance with the 24-hour and annual PM10 standards.

Because Oregon has used an approved model that has performed within EPA parameters to simulate ambient air quality during the attainment period of 1998 and the simulation has predicted compliance with the PM10 NAAQS in all areas in the modeling domain, Oregon has provided modeling that demonstrates attainment of the 24-hour and annual PM10 NAAQS. The modeling demonstration of attainment combined with the monitoring data submitted on March 10, 2005 is an adequate showing that the Medford-Ashland area has attained the PM10 NAAQS.

4. Quantitative Milestones Which are To Be Achieved Every Three Years and Which Demonstrate Reasonable Further Progress (RFP) Toward Attainment by December 31, 1994

Qualitative milestones are no longer required in the Medford-Ashland NAA since this requirement relates to the applicable attainment date, and we have determined based on an analysis of monitoring and modeling data that the area attained the PM10 NAAQS by the applicable attainment date.

5. PM10 Precursors

The control requirements which are applicable to major stationary sources of PM10 also apply to major stationary sources of PM10 precursors unless EPA determines such sources do not contribute significantly to PM10 levels in excess of the NAAQS in the area. See section 189(e) of the Act. The General Preamble contains guidance addressing how EPA intends to implement section 189(e). See 57 FR 13539-13542 (April 16, 1992).

As stated above in section III.C.3., there are no measured or modeled PM10 levels in excess of the NAAQS in the Medford-Ashland NAA. Therefore, major stationary sources of PM10 precursors may be excluded from control requirements based on the determination that PM10 levels in the area have not exceeded the NAAQS since the early nineteen nineties.

6. Attainment and Maintenance Emissions Inventory

Section 172(c)(3) of the Act requires a comprehensive, accurate, current inventory of actual emissions from all sources in the Medford-Ashland PM10 nonattainment area and section 175A of the Act and the Calcagni memo require an attainment emissions inventory to identify the level of emissions in the area sufficient to attain the NAAQS. Where the State has made an adequate demonstration that air quality has improved as a result of the SIP, the attainment inventory will generally be an inventory of actual emissions at the time the area attained the standard.

Oregon included in the plan an attainment year emissions inventory for the calendar year 1998, and a maintenance emissions inventory which represents 24-hour and annual emissions for the year 2015. Oregon chose 1998 as its base year to estimate actual emissions for attainment because it is the most recent year for which Oregon had complete meteorological data, and because 1998 meteorology included inversions and stagnation events that are representative of the worst case meteorology inputs necessary for modeling attainment. EPA has reviewed the attainment year and maintenance year emissions inventories and has determined that they are accurate and comprehensive and therefore meet the requirements of Section 172(c)(3) of the Act.

Based on the 1998 emissions inventory, the major sources of PM10 emissions over 24-hours were: total area sources including residential wood combustion (43%), mobile sources (45%), major point sources (10%) and nonroad mobile sources (2%). Residential fuel combustion alone accounted for 29% of the daily worst case 1998 emissions. Annual 1998 emissions were comprised of mobile emissions (67%), area source emissions (18%), major point source emissions (14%), and nonroad mobile sources (2%). Residential fuel combustion comprised 11% of the area source fraction of the 1998 annual emissions.

7. Air Quality Monitoring Requirements

Section 172(c)(7) requires that States meet the applicable requirements in section 110(a)(2) of the Act which includes the requirement to operate an appropriate air monitoring network in accord with 40 CFR part 58 to verify attainment status of the area. In addition, section 175(A) of the Act requires that states verify continued attainment of the NAAQS through operation of an appropriate air quality monitoring network. The State of Oregon operates two PM10 State and Local Air Monitoring Stations (SLAMS) in the Medford-Ashland NAA. There is a monitor at the intersection of Welch and Jackson Streets in the City of Medford, and a monitor at the White City Post Office. Both monitoring sites meet EPA SLAMS network design and siting requirements set forth at 40 CFR part 58, appendices D and E, and have been monitoring for PM10 since 1991. In section 4.14.12.9 of the attainment and maintenance plan, the State commits to continued operation of the monitoring network. Based on meeting SLAMS network design and siting requirements and its commitment to continue to operate the monitoring network, the State has met air quality monitoring requirements.

8. Demonstration of Maintenance

Section 175(A) of the Act requires a demonstration of maintenance of the NAAQS for 10 years after designation. A State may generally demonstrate maintenance of the NAAQS by either showing that future emissions of a pollutant or its precursors will not exceed the level of the attainment inventory, or by modeling to show that the future anticipated mix of sources and emission rates will not cause a violation of the NAAQS. Under the Act, the showing should be based on the same level of modeling used for the attainment demonstration required as part of the approved attainment plan.

In this case, Oregon submitted CALPUFF modeling results that demonstrate maintenance for the Medford-Ashland NAA in the year 2015. Since CALPUFF was also used for the modeled attainment demonstration, the level of modeling submitted for the maintenance demonstration is equivalent to the level of modeling used in the attainment demonstration. Emissions inputs to the model were developed from the 1998 base year inventory using growth factors and allowable emissions. Emissions inputs into the model were calculated with the controls that the State submitted with the attainment and maintenance plan in place, and maintenance was projected to 2015. Based on the CALPUFF modeling results submitted with the plan, EPA believes that the State is demonstrating maintenance of the PM10 NAAQS for the ten-year period 2005-2015. Oregon, in section 4.14.6.2 of the attainment and maintenance plan, provided a summary of the modeling results. For the annual PM10 NAAQS, Oregon provided a table with the top 1% of the model predicted and a figure with all of the model's predicted annual average PM10 values. None of the predicted annual average values exceeded the annual PM10 NAAQS, 50 μg/m³. Based on our review of this information, EPA is determining that the model did not predict any violations of the annual PM10 NAAQS in any grids and the State has demonstrated that the Medford-Ashland area will continue to maintain the annual PM10 NAAQS in 2015.

Oregon also provided a table of the top 1% of the fourth highest predicted 24-hour PM10 values in the plan. To determine compliance with the 24-hour NAAQS using modeling, the fourth highest predicted 24-hour PM10 value is used to represent the expected 24-hour PM10 ambient air quality level over a three-year period. Based on the top 1% of the fourth highest predicted 24-hour PM10 values in the plan, there were no predicted 24-hour values that exceeded 150 μg/m3. Therefore the model did not predict any violations of the 24-hour PM10 NAAQS. Oregon has demonstrated maintenance with the 24-hour PM10 NAAQS in the year 2015.

9. Contingency Measures and Contingency Provisions

As described in section 172(c)(9) of the Act, all attainment plans must include contingency measures. See 57 FR 13543-13544 (April 16, 1992). Section 175A of the Act requires that a maintenance plan include contingency provisions, as necessary, to promptly correct any violation of the NAAQS that occurs after redesignation. These contingency provisions are distinguished from those contingency measures generally required under section 172(c)(9). Contingency measures described in section 172(c)(9) of the Act should consist of other available measures which were to become effective without further action by the State or EPA, upon a determination by EPA that the area has failed to achieve RFP or to attain the PM10 NAAQS by the applicable statutory deadline. See 57 FR 13543-13544 (April 16, 1992). In this case, contingency measures are no longer required in the Medford-Ashland NAA since the requirement relates to the applicable attainment date, and the area has attained the PM10 NAAQS by the applicable attainment date. For the purposes of section 175A, contingency provisions are required. However, the State is not required to have fully adopted contingency measures that will take effect without further action by the State in order for the maintenance plan to be approved.

Section 4.14.9.0 of the attainment and maintenance plan provides the process for identification of contingency measures if monitored air quality values exceed early warning thresholds of 120 μg/m³ (24-hour average) or 40 μg/m³ (annual average) or if there is a violation of the PM10 NAAQS. In the event of a monitored value over the threshold, or a violation, Oregon will first review the relevant air quality data to determine the cause of the event. Following this review, it may convene the Medford-Ashland Air Quality Advisory Committee to assist in this review and to determine if a corrective action is needed. These contingency provisions meet the requirements of section 175(A) of the Act.

10. Conclusion

As discussed above, Oregon is meeting all of the requirements in Subparts 1 and 4 of Part D, Title 1 of the Act for PM10 nonattainment areas and attainment plans, and section 175(A) planning requirements for PM10 nonattainment areas and maintenance plans for the Medford-Ashland NAA. In this action, EPA is approving Oregon's March 10, 2005 submittal of the attainment and maintenance plan for the Medford-Ashland NAA which includes implementation of RACT/RACM, the calendar year 1998 attainment year emissions inventory, the calendar year 2015 maintenance emissions inventory, the attainment and maintenance demonstrations through air quality monitoring data and CALPUFF modeling, continued operation of an EPA approved monitoring network, and implementation of a major new source permitting program.

D. Clean Air Act Requirements for Redesignation of Nonattainment Areas

Nonattainment areas can be redesignated to attainment after the area has measured air quality data showing it has attained the NAAQS and when certain planning requirements are met. Section 107(d)(3)(E) of the Act, and the General Preamble to Title I of the Act provide the criteria for redesignation. See 57 FR 13498 (April 16, 1992). These criteria are further clarified in the Calcagni Memo. The criteria for redesignation are:

(1) The Administrator has determined that the area has attained the applicable NAAQS;

(2) The Administrator has fully approved the applicable SIP for the area under section 110(k) of the Act;

(3) The state containing the area has met all requirements applicable to the area under section 110 and part D of the Act;

(4) The Administrator has determined that the improvement in air quality is due to permanent and enforceable reductions in emissions; and

(5) The Administrator has fully approved a maintenance plan for the area as meeting the requirements of section 175A of the Act.

E. Review of the Oregon State Submittal Addressing the Requirements for Redesignation of Nonattainment Areas and Maintenance Plans

1. Attainment of the Applicable NAAQS

States must demonstrate that an area has attained the PM10 NAAQS through analysis of ambient air quality data from an ambient air monitoring network representing peak PM10 concentrations. The data should be stored in the EPA Air Quality System (AQS) database. As explained above in III.C.3. of this action, the Medford-Ashland NAA has attained the PM10 NAAQS based on quality assured air quality monitoring data from the Welch and Jackson monitor and from the White City Post Office monitor which has been stored in the AQS database. Current monitoring data shows that the area has continued to meet the annual and 24-hour PM NAAQS for every three-year period since the attainment date.

2. Fully Approved Attainment Plan

In order to qualify for redesignation, the SIP for the area must be fully approved under section 110(k) of the Act, and must satisfy all requirements that apply to the area. In this case, the Medford-Ashland area must have an approved moderate area plan as described above in section III.B. As explained above in section III.C. of this action, the State has met the attainment plan requirements for the Medford-Ashland NAA. As also described above in section III.C. , EPA is approving the attainment plan for the Medford Ashland NAA. Therefore, upon the effective date for this action, Oregon will have a fully approved attainment plan under section 175(A) of the Act.

3. Section 110 and Part D Requirements

Section 107(d)(3)(E) of the Act requires that a State containing a nonattainment area must meet all applicable requirements under section 110 and Part D of the Act for an area to be redesignated to attainment. EPA interprets this to mean that the State must meet all requirements that applied to the area prior to, and at the time of, the submission of a complete redesignation request. As explained above in section III.C. of this action, based on EPA's review of the attainment and maintenance plan, Oregon has met the Part D requirements for the Medford-Ashland NAA. The following is a summary of how Oregon meets the Clean Air Act section 110 requirements.

Section 110(a)(2) of the Act contains general requirements for implementation plans. These requirements include, but are not limited to, submittal of a SIP that has been adopted by the State after reasonable notice and public hearing; provisions for establishment and operation of appropriate apparatus, methods, systems and procedures necessary to monitor ambient air quality; provisions for Part C—Prevention of Significant Deterioration (PSD) and Part D—New Source Review (NSR) permit programs; criteria for stationary source emission control measures, monitoring and reporting; provisions for modeling; and provisions for public and local agency participation. See the General Preamble for further explanation of these requirements. See 57 FR 13498 (April 16, 1992).

EPA has approved Oregon's plan for the attainment and maintenance of the national standards under Section 110. See 40 CFR 52.1972. Therefore, for purposes of redesignation, the State has satisfied all requirements under section 110(a)(2) of the Act.

4. Permanent and Enforceable Improvements in Air Quality

The State must be able to reasonably attribute the improvement in air quality to permanent and enforceable emission reductions. In making this showing, the State must demonstrate that air quality improvements are the result of actual enforceable emission reductions. This showing should consider emission rates, production capacities, and other related information. The analysis should assume that sources are operating at permitted levels (or historic peak levels) unless evidence is presented that such an assumption is unrealistic.

Oregon has demonstrated that the air quality improvements in the Medford-Ashland NAA are the result of permanent emission reductions and not a result of either economic trends or meteorology. Medford-Ashland's attainment history corresponds with the adoption of PM10 controls in the area. In the 1980's, Oregon adopted rules containing control measures for the Medford-Ashland NAA, and in 1991, the Oregon Environmental Quality Commission (EQC) adopted the more comprehensive suite of controls that are currently in place. See 57 FR 24373 (June 9, 1992), 58 FR 10972 (February 23, 1993) and 56 FR 36006 (July 30, 1991). In 1992, the year following the EQC's adoption of the full suite of PM10 controls in Medford-Ashland, there were no exceedences of the PM10 NAAQS in the Medford-Ashland NAA. Since 1992, there has been a decreasing trend in PM10 emissions, despite population and economic growth. Section 4.14.3.3 of the attainment and maintenance plan describes population and emission growth in the Medford-Ashland NAA. From 1976-1996 population growth in the Medford-Ashland NAA was estimated at 2.6%/year for urban areas and .05%/year for rural areas.

In addition, CALPUFF modeling submitted with the plan demonstrates that the reductions in emissions are not due to temporary meteorological effects. The meteorology used for CALPUFF modeling represents a worst case meteorological scenario, and is comparable to 1985 meteorology, the year that Medford-Ashland experienced PM10 levels higher than 300 μg/m³ over 24 hours. Thus, based on a review of control measures contained in the attainment plan and the corresponding emission reductions, we have determined that the air quality improvements in the Medford-Ashland NAA are due to permanent and enforceable reductions.

5. Fully Approved Maintenance Plan

As described above in section III.C. , EPA is approving the maintenance plan for the Medford-Ashland NAA. Therefore, upon the effective date for this action, Oregon will have a fully approved maintenance plan under section 175(A) of the Act.

6. Transportation and General Conformity

Transportation Conformity

Under section 176(c) of the Act, transportation plans, programs and projects in nonattainment or maintenance areas that are funded or approved under the Federal Transit Act must conform to the applicable SIP. In short, a transportation plan is deemed to conform to the applicable SIP if the emissions resulting from the implementation of that transportation plan are less than or equal to the motor vehicle emissions budget (MVEB) established in the SIP for the maintenance year and other analysis years.

Section 4.14.4.0 of the plan contains a description of the air quality conformity process for the Medford-Ashland NAA. The Rogue Valley Council of Governments is the local agency that creates and maintains the Rogue Valley Transportation Plan which must conform at planning intervals established in 40 CFR 93 with the MVEB for the year 2015. Table 1. contains the MVEB established in the attainment and maintenance plan.

Table 1.—Motor Vehicle Emissions Budget (PM10)
[Annual PM10 (tons/year)]
| Annual PM10 (tons/year)
Year | 2015
Motor Vehicle Emissions Budget | 3754

In addition to conforming to the MVEB in the SIP, the local agency must show at planning intervals established in 40 CFR part 93 that transportation control measures (TCMs) are being implemented. The street cleaning program for reducing particulate pollution in the City of Medford and White City is the only transportation control measure in the attainment and maintenance plan. At a minimum, the cleaning program must continue to use a high efficiency, vacuum street sweeper or equivalent, and cover an area that includes Medford, White City and significant intervening travel corridors, and provide cleaning frequency no less than twice per month.

The transportation conformity rule establishes adequacy criteria for MVEBs (40 CFR 93.118). In section 4.14.4.0 of the plan, Oregon lists the adequacy criteria and how it meets these criteria. On February 3, 2005, EPA posted a proposal to find the Medford-Ashland MVEB adequate for transportation conformity purposes on EPA's conformity Web site: http://www.epa.gov/oms/traq. MVEBs established in the plan are posted on this Web site to provide the public with an opportunity to review and comment on the MVEB in the plan. The comment period for the adequacy posting for the Medford-Ashland NAA ended on March 15, 2005. EPA did not receive any comments on this posting.

General Conformity

For Federal actions which are required to address the specific requirements of the general conformity rule, one set of requirements applies particularly to ensuring that emissions from the action will not cause or contribute to new violations of the NAAQS, exacerbate current violations, or delay timely attainment. To satisfy this requirement to the State may allocate a budget in the SIP for future Federal actions that could result in emissions. This budget can be used to demonstrate that “the total of direct and indirect emissions from the action (or portion thereof), would not exceed the emissions budgets specified in the applicable SIP.” and therefore not cause or contribute to new violations of the NAAQS, exacerbate current violations or delay timely attainment 40 CFR 93.158(a)(5)(i)(A). The decision about whether to include specific allocations of allowable emissions increases to sources is one made by the state and local air quality agencies. These emissions budgets are unlike, and are not to be confused with, those used in transportation conformity. Emissions budgets in transportation conformity are required to limit and restrain emissions from motor vehicles. Emissions budgets in general conformity allow increases in emissions up to specified levels for Federal actions. Oregon has not chosen to include specific emissions allocations for Federal projects that would be subject to the provisions of general conformity.

Based on our review of the Medford PM10 attainment and maintenance plan and for the reasons discussed above, we conclude that the requirements for an approvable maintenance plan under the Act have been met. Therefore, we are approving the attainment and maintenance plan for PM10 submitted for the Medford nonattainment area. In addition, based on our evaluation of Oregon's March 10, 2005 SIP submittal, we conclude the requirements for redesignation in section 107(d)(3)(E) have been met. Therefore, we are redesignating the Medford-Ashland PM10 nonattainment area to attainment.

7. Rule Revisions Submitted on March 10, 2005

Oregon submitted revisions to OAR Chapter 340 Divisions 204 (Designation of Air Quality Areas), 224 (Major New Source Review), 225 (Air Quality Analysis Requirements) and 240 (Rules for Areas with Unique Air Quality Needs) with the attainment and maintenance plan on March 10, 2005. EPA has reviewed these revisions and determined that the revisions are approvable because they are either nonsubstantive changes or they exceed the requirements in the Clean Air Act. Below is a summary of these revisions and EPA's basis for finding these revisions approvable. The TSD for this action contains a complete description of the rule revisions and EPA's analysis.

Divisions 200, 204, 224 and 225

EPA is not taking action on OAR Chapter 340 Division 200 because the revised section describes the State's procedures for adopting its SIP and incorporates by reference all of the revisions adopted by the Environmental Quality Commission (EQC) for approval into the Oregon SIP (as a matter of state law) and is not needed as part of the federally enforceable SIP for Oregon.

The revisions to OAR Chapter 340 Divisions 204, 224 and 225 submitted on March 10, 2005 clean up the rules and address the New Source Review program changes permitted by the Clean Air Act upon redesignation of an area to attainment. Once an area is redesignated to attainment and becomes a maintenance area, the PSD and maintenance NSR programs apply instead of the more stringent nonattainment NSR program. However, for the Medford-Ashland PM10 Maintenance Area, Oregon is retaining in its maintenance NSR rules the same requirements that applied under the nonattainment NSR rules [i.e., the State is continuing the requirement to install lowest achievable emission rate technology (LAER), the requirement to obtain emission offsets and demonstrate an air quality benefit, and the lower threshold for triggering NSR]. By having maintenance NSR requirements in addition to PSD requirements, the Medford-Ashland PM10 attainment and maintenance plan goes beyond what is required by the CAA.

We are taking no action on OAR Chapter 340 Division 204-0030, 224-0060, or 225-020 at this time because they have been revised by ODEQ (state effective September 9, 2005) since the submittal of the Medford-Ashland attainment and maintenance plan. Sections 204-0030, 224-0060, and 225-0020 were revised and submitted to EPA on October 25, 2005 as part of the Lakeview and La Grande PM10 Maintenance Plans and redesignation requests. We reviewed these rule changes and acted on them in Federal Register notices on March 22, 2006. See 71 FR 14393-14399, and 70 FR 14399-14406. To be consistent with those actions, we are incorporating by reference the more recent version (September 9, 2005) of these sections. With the exception of OAR Chapter 340 Division 204-0030, 224-0060, or 225-020, EPA is approving the revisions to Divisions 204, 224, and 225 included in the March 10, 2005 submittal because they are either minor, nonsubstantive revisions or meet or go beyond the requirements of the CAA.

Division 240

Sections in this Division were cleaned up to remove provisions with past implementation dates and to make other non-substantive changes. OAR 340-240-0220 (Source Testing) was revised to allow boilers to exceed their normal steaming rates by up to 10% to allow for variations in fuel changes and meteorological conditions. We are approving this revision since this additional allowance would not result in emissions in excess of emission limits.

IV. Conclusion and Action

Based on our review of the Medford-Ashland PM10 attainment and maintenance plan, and for the reasons discussed above, we conclude that the CAA requirements for an approvable attainment and maintenance plan have been met. Therefore, we are approving the attainment and maintenance plan for PM10 submitted for the Medford-Ashland NAA. Also based on our evaluation of DEQ's March 10, 2005 submittal, we conclude that all the requirements for redesignation in section 107(d)(3)(E) of the Act have been met. Therefore, we are redesignating the Medford-Ashland PM10 nonattainment area to attainment. Finally, we have reviewed the revisions to Oregon's industrial source rules submitted on May 14, 2004 and March 10, 2005 and, with the exceptions discussed above, find them approvable. Accordingly, in this action we are approving the rule revisions submitted on May 14, 2004 and March 10, 2005 with the exception of the four sections we are not acting on for reasons described above.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 18, 2006. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2).

List of Subjects

40 CFR Part 52

Environmental protection, Air pollution control, Incorporation by reference, Intergovernmental relations, Particulate matter, Reporting and recordkeeping requirements.

40 CFR Part 81

Environmental protection, Air pollution control, National parks, Wilderness areas.

Dated: May 16, 2006.
L. Michael Borgert,
Regional Administrator, Region 10.

Chapter I, title 40 of the Code of Federal Regulations is amended as follows:

PART 52—[AMENDED]

1. The authority citation for part 52 continues to read as follows:

Authority: 42 U.S.C. 7401, et seq.

Subpart MM—Oregon

2. Section 52.1970 is amended by adding paragraph (c)(148) to read as follows:

§ 52.1970 Identification of plan.

* * * * *

(c) * * *

(148) On March 10, 2005, the Oregon Department of Environmental Quality submitted a PM10 attainment and maintenance plan and requested redesignation of the Medford-Ashland PM10 nonattainment area to attainment for PM10. On May 14, 2004, the Oregon Department of Environmental Quality submitted revisions to Oregon Administrative Rules, Chapter 340, Divisions 224 and 225 to clarify the requirements for creating and using emission offsets and to make other minor revisions. The State's attainment and maintenance plan, redesignation request, and rule revisions meet the requirements of the Clean Air Act.

(i) Incorporation by reference.

(A) The following sections of Oregon Administrative Rules 340: 204-0010, 224-0070, 225-0045, 225-0090, 240-0030, 240-0100, 240-0110, 240-0120, 240-0130, 240-0140, 240-0150, 240-0180, 240-0190, 240-0210, 240-0220, and 240-0230 as effective January 4, 2005; 224-0010, 224-0030, 224-0050, 224-0080, and 225-0050 as effective April 14, 2004 and; 224-0060, and 225-0020 as effective September 9, 2005.

(B) The following sections of the Codified Ordinances of Jackson County: 1810.01, as effective May 2, 1990; 1810.02, as effective August 22, 2001; 1810.03, as effective December 20, 1989; 1810.04, as effective May 2, 1990; 1810.05, as effective May 2, 1990; 1810.06, as effective December 4, 1985; 1810.07, as effective August 22, 2001; 1810.08, as effective December 20, 1989; Exhibit A, as effective May 2, 1990; Exhibit B, as effective May 2, 1990; Exhibit C, as effective May 2, 1990; and Exhibit D, as effective May 2, 1990.

(C) The following sections of the Code of the City of Medford, Oregon: 5.550 as effective March 16, 2000; 7.220, as effective September 17, 1998; 7.222, as effective September 17, 1998; 7.224, as effective September 17, 1998; 7.240 as effective August 2, 1990, and 7.242 as effective September 17, 1998.

(D) The following sections of the City of Central Point Municipal Code: 8.01.010, 8.01.012, 8.01.014, 8.01.020, 8.01.030, and 8.01.032 as effective 1998; 8.04.040 H., as effective 1979; and 8.04.095 as effective 1994.

(E) The following sections of the City of Ashland Municipal Code: 10.30.005 and 10.30.010 as effective 1998; 10.30.020, as effective 2000; 10.30.030 and 10.30.040, as effective 1993; 9.24.010, 9.24.020, 9.24.030, 9.24.040, and 9.24.050 as effective 1998.

(F) The following sections of the City of Talent ordinances: Ordinance #565, as effective August 20, 1992; and Ordinance #98-635-0, as effective March 4, 1998.

(G) The following sections of the City of Phoenix code: 8.16.040, as effective 1982; 8.16.050, as effective 1982; 8.16.090, as effective 1982; 8.20.010, as effective 1998; 8.20.020, as effective 1998; 8.20.030 as effective 1998; 8.20.040, as effective 1998; and 8.20.050 as effective 1998.

(H) The following sections of the City of Jacksonville code: Ordinance 375, amending 8.08.100 of the Jacksonville Municipal Code as effective April 21, 1992; City of Jacksonville Code Chapter 8.10, as effective February 1992.

(I) The following sections of the City of Eagle Point Code: 8.08.160, as effective 2000; 8.08.170, as effective 1990; 8.08.180, as effective 1990; 8.08.190 as effective 1990; and 8.08.200 as effective 1990.

(J) Remove the following old sections of the Oregon Administrative Rules 340 from the current incorporation by reference: 240-0200, 240-0240, and 240-0270.

(ii) Additional Material.

(A) The following sections of the Codified Ordinances of Jackson County: 1810.09 as effective December 20, 1989, and 1810.99, as effective October 29, 2003.

(B) The following sections of the Code of the City of Medford, Oregon: 7.226, as effective November 20, 1989; and 7.300 as effective April 6, 2000.

(C) The following sections of the City of Central Point Municipal Code: 8.04.100, 8.04.110, 8.04.120, 8.04.130, and 8.04.140 as effective 1966, and 8.04.150 as effective 1995.

(D) The following sections of the City of Ashland Municipal Code: 10.30.050, as effective 1993; and 9.24.060, as effective 1998.

3. Section 52.1973 is amended by adding paragraph (e)(5) to read as follows:

§ 52.1973 Approval of plans.

* * * * *

(e) * * *

(5) EPA approves as a revision to the Oregon State Implementation Plan, the Medford PM10 attainment and maintenance plan adopted by the Oregon Environmental Quality Commission on December 10, 2004 and submitted to EPA on March 10, 2005.

* * * * *

PART 81—[AMENDED]

4. The authority citation for part 81 continues to read as follows:

Authority: 42 U.S.C. 7401, et seq.

5. In § 81.338, the table entitled “Oregon PM-10” is amended by revising the entry for “Medford Air Quality Maintenance Area (including White City)” to read as follows:

§ 81.338 Oregon.

* * * * *

Oregon—PM-10
Designated area | Designation: Date | Designation: Type | Classification: Date | Classification: Type
* * * * * * *
Medford Air Quality Maintenance Area (including White City) | 8/18/06 | Attainment.
* * * * * * *

* * * * *

[FR Doc. 06-5509 Filed 6-16-06; 8:45 am]

BILLING CODE 6560-50-P